DEPARTMENT OF ENERGY

Federal Energy Regulatory Commission

Combined Notice of Filings #1

Take notice that the Commission received the following exempt wholesale generator filings:

Docket Numbers: EG23-169-000.

Applicants: Three Corners Solar, LLC.

Description: Three Corners Solar, LLC submits Notice of Self-Certification of Exempt Wholesale Generator Status.

Filed Date: 5/25/23.

Accession Number: 20230525-5030.

Comment Date: 5 p.m. ET 6/15/23.

Docket Numbers: EG23-170-000.

Applicants: Three Corners Prime Tenant, LLC.

Description: Three Corners Prime Tenant, LLC submits Notice of Self-Certification of Exempt Wholesale Generator Status.

Filed Date: 5/25/23.

Accession Number: 20230525-5066.

Comment Date: 5 p.m. ET 6/15/23.

Docket Numbers: EG23-171-000.

Applicants: BE-Pine 1 LLC.

Description: BE-Pine 1 LLC submits Notice of Self-Certification of Exempt Wholesale Generator Status.

Filed Date: 5/25/23.

Accession Number: 20230525-5128.

Comment Date: 5 p.m. ET 6/15/23.

Docket Numbers: EG23-172-000.

Applicants: Horus West Virginia I, LLC.

Description: Horus West Virginia I, LLC submits Notice of Self-Certification of Exempt Wholesale Generator Status.

Filed Date: 5/25/23.

Accession Number: 20230525-5133.

Comment Date: 5 p.m. ET 6/5/23.

Take notice that the Commission received the following Complaints and Compliance filings in EL Dockets:

Docket Numbers: EL23-71-000; ER18-194-005; ER18-195-005.

Applicants: American Electric Power Service Corporation, Southwest Power Pool, Inc., American Electric Power Service Corporation, Southwest Power Pool, Inc., East Texas Electric Cooperative, Inc., Northeast Texas Electric Cooperative, Inc., Golden Spread Electric Cooperative, Arkansas Electric Cooperative Corporation.

Description: Joint Formal Challenge and Complaint of Arkansas Electric Cooperative Corporation, et al v. Public Service Company of Oklahoma, et al.

Filed Date: 5/22/23.

Accession Number: 20230522-5226.

Comment Date: 5 p.m. ET 6/21/23.

Take notice that the Commission received the following electric rate filings:

Docket Numbers: ER10-2238-010; ER10-2237-010; ER10-2239-010; ER12-896-006; ER14-1818-025; ER16-748-004; ER19-1577-002.

Applicants: Kearny Mesa Storage, LLC, Sentinel Energy Center, LLC, Boston Energy Trading and Marketing LLC, Mariposa Energy, LLC, Larkspur Energy LLC, Wildflower Energy LP, Indigo Generation LLC.

Description: Triennial Market Power Analysis for Southwest Region of Indigo Generation LLC, et al.

Filed Date: 6/10/22.

Accession Number: 20220610-5191.

Comment Date: 5 p.m. ET 7/24/23.

Docket Numbers: ER22-233-004.

Applicants: Portland General Electric Company.

Description: Refund Report: PGE Transmission Rate Case Refund Report to be effective N/A.

Filed Date: 5/25/23.

Accession Number: 20230525-5060.

Comment Date: 5 p.m. ET 6/15/23.

Docket Numbers: ER22-2643-000.

Applicants: Three Corners Solar, LLC.

Description: Refund Report: Supplement to Refund Report to be effective N/A.

Filed Date: 5/25/23.

Accession Number: 20230525-5093.

Comment Date: 5 p.m. ET 6/15/23.

Docket Numbers: ER23-1524-001.

Applicants: Consumers Energy Company.

Description: Tariff Amendment: Corrected Revision to RS FERC No. 116 (ER23-1524-) to be effective 6/1/2023.

Filed Date: 5/25/23.

Accession Number: 20230525-5079.

Comment Date: 5 p.m. ET 6/15/23.

Docket Numbers: ER23-1619-001.

Applicants: Mesquite Solar 1, LLC.

Description: Tariff Amendment: Amendment to Assignment, Co-Tenancy and Shared Facilities Agreement Filing to be effective 4/13/2023.

Filed Date: 5/24/23.

Accession Number: 20230524-5249.

Comment Date: 5 p.m. ET 6/5/23.

Docket Numbers: ER23-1939-001.

Applicants: Pike Solar LLC.

Description: Tariff Amendment: Amendment to Market-Based Rate Application to be effective 7/20/2023.

Filed Date: 5/25/23.

Accession Number: 20230525-5127.

Comment Date: 5 p.m. ET 6/15/23.

Docket Numbers: ER23-1960-000.

Applicants: Midcontinent Independent System Operator, Inc.

Description: § 205(d) Rate Filing: 2023-05-24_SA 3989 METC-New Covert 1st Rev GIA to be effective 6/1/2023.

Filed Date: 5/24/23.

Accession Number: 20230524-5216.

Comment Date: 5 p.m. ET 6/14/23.

Docket Numbers: ER23-1961-000.

Applicants: Southwest Power Pool, Inc.

Description: § 205(d) Rate Filing: 1166R40 Oklahoma Municipal Power Authority NITSA and NOA to be effective 8/1/2023.

Filed Date: 5/25/23.

Accession Number: 20230525-5026.

Comment Date: 5 p.m. ET 6/15/23.

Docket Numbers: ER23-1962-000.

Applicants: PJM Interconnection, L.L.C.

Description: § 205(d) Rate Filing: Original ISA, SA No. 6908; Queue No. NQ-170 to be effective 4/28/2023.

Filed Date: 5/25/23.

Accession Number: 20230525-5028.

Comment Date: 5 p.m. ET 6/15/23.

Docket Numbers: ER23-1963-000.

Applicants: PJM Interconnection, L.L.C.

Description: § 205(d) Rate Filing: Original NSA, Service Agreement No. 6906; Queue No. Z1-036 to be effective 7/25/2023.

Filed Date: 5/25/23.

Accession Number: 20230525-5057.

Comment Date: 5 p.m. ET 6/15/23.

Docket Numbers: ER23-1964-000.

Applicants: Southern California Edison Company.

Description: § 205(d) Rate Filing: 1st Amend GIA & DSA Orange County Energy Storage 3 + eTariff Removal SA1037/1038 to be effective 7/25/2023.

Filed Date: 5/25/23.

Accession Number: 20230525-5061.

Comment Date: 5 p.m. ET 6/15/23.

Docket Numbers: ER23-1965-000.

Applicants: PJM Interconnection, L.L.C.

Description: § 205(d) Rate Filing: Original NSA, Service Agreement No. 6910; Queue No. AB1-088 to be effective 7/25/2023.

Filed Date: 5/25/23.

Accession Number: 20230525-5072.

Comment Date: 5 p.m. ET 6/15/23.

Docket Numbers: ER23-1966-000.

Applicants: Southern California Edison Company.

Description: § 205(d) Rate Filing: 1st Amend GIA & DSA Orange County Energy Storage 2 + eTariff Removal SA1039/1040 to be effective 7/25/2023.

Filed Date: 5/25/23.

Accession Number: 20230525-5091.

Comment Date: 5 p.m. ET 6/15/23.

Docket Numbers: ER23-1967-000.

Applicants: Three Corners Prime Tenant, LLC.

Description: Baseline eTariff Filing: Market-Based Rate Application to be effective 7/25/2023.

Filed Date: 5/25/23.

Accession Number: 20230525-5126.

Comment Date: 5 p.m. ET 6/15/23.

Docket Numbers: ER23-1968-000.

Applicants: Energy Harbor Generation LLC.

Description: Tariff Amendment: Notice of Cancellation of Market Based Rate Tariff to be effective 6/1/2023.

Filed Date: 5/25/23.

Accession Number: 20230525-5137.

Comment Date: 5 p.m. ET 6/15/23.

Docket Numbers: ER23-1969-000.

Applicants: Energy Harbor LLC.

Description: § 205(d) Rate Filing: Provisions in Reactive Power Rate Schedule for Sammis Facility to be effective 5/3/2023.

Filed Date: 5/25/23.

Accession Number: 20230525-5138.

Comment Date: 5 p.m. ET 6/15/23.

Docket Numbers: ER23-1970-000.

Applicants: Northern States Power Company, a Wisconsin corporation.

Description: § 205(d) Rate Filing: 2023-05-25 MISO NSPW CRS 171-NSPW to be effective 5/26/2023.

Filed Date: 5/25/23.

Accession Number: 20230525-5140.

Comment Date: 5 p.m. ET 6/15/23.

Take notice that the Commission received the following electric securities filings:

Docket Numbers: ES23-44-000.

Applicants: Golden Spread Electric Cooperative, Inc.

Description: Amendment to Application Under Section 204 of the Federal Power Act for Authorization to Issue Securities of Golden Spread Electric Cooperative, Inc.

Filed Date: 5/25/23.

Accession Number: 20230525-5080.

Comment Date: 5 p.m. ET 6/5/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 25, 2023.
Debbie-Anne A. Reese,
Deputy Secretary.

[FR Doc. 2023-11640 Filed 5-31-23; 8:45 am]

BILLING CODE 6717-01-P